DEPARTMENT OF ENERGY

Federal Energy Regulatory Commission

Combined Notice of Filings #1

Take notice that the Commission received the following electric corporate filings:

Docket Numbers: EC24-119-000.

Applicants: Steele Flats Wind Project, LLC, Steele Flats Wind I, LLC.

Description: Joint Application for Authorization Under Section 203 of the Federal Power Act of Steele Flats Wind Project, LLC et al.

Filed Date: 9/10/24.

Accession Number: 20240910-5194.

Comment Date: 5 p.m. ET 10/1/24.

Docket Numbers: EC24-120-000.

Applicants: Steele Flats Wind Project, LLC, Steele Flats Wind I, LLC.

Description: Joint Application for Authorization Under Section 203 of the Federal Power Act of Steele Flats Wind Project, LLC et al.

Filed Date: 9/12/24.

Accession Number: 20240912-5205.

Comment Date: 5 p.m. ET 10/3/24.

Docket Numbers: EC24-121-000.

Applicants: Big Sky Wind, LLC.

Description: Application for Authorization Under Section 203 of the Federal Power Act of Big Sky Wind, LLC.

Filed Date: 9/12/24.

Accession Number: 20240912-5206.

Comment Date: 5 p.m. ET 10/3/24.

Take notice that the Commission received the following electric rate filings:

Docket Numbers: ER21-2364-004.

Applicants: Albemarle Beach Solar, LLC.

Description: Albemarle Beach Solar, LLC submits an Amendment to its 07/01/2024 Informational Filing.

Filed Date: 9/13/24.

Accession Number: 20240913-5237.

Comment Date: 5 p.m. ET 9/23/24.

Docket Numbers: ER24-1665-001.

Applicants: Oak Leaf Solar 56 LLC.

Description: Notice of Non-Material Change in Status of Oak Leaf Solar 56 LLC.

Filed Date: 9/16/24.

Accession Number: 20240916-5080.

Comment Date: 5 p.m. ET 10/7/24.

Docket Numbers: ER24-3047-000.

Applicants: Coffeen Solar BESS LLC.

Description: Baseline eTariff Filing: Application for Market-Based Rate Authorization to be effective 11/1/2024.

Filed Date: 9/13/24.

Accession Number: 20240913-5212.

Comment Date: 5 p.m. ET 10/4/24.

Docket Numbers: ER24-3048-000.

Applicants: Baldwin Solar BESS LLC.

Description: Baseline eTariff Filing: Application for Market-Based Rate Authorization to be effective 11/1/2024.

Filed Date: 9/13/24.

Accession Number: 20240913-5214.

Comment Date: 5 p.m. ET 10/4/24.

Docket Numbers: ER24-3049-000.

Applicants: PJM Interconnection, LLC.

Description: 205(d) Rate Filing: Original CSA, SA No. 7293; Queue No. NQ-123 to be effective 8/15/2024.

Filed Date: 9/16/24.

Accession Number: 20240916-5028.

Comment Date: 5 p.m. ET 10/7/24.

Docket Numbers: ER24-3050-000.

Applicants: PJM Interconnection, LLC.

Description: 205(d) Rate Filing: Amendment to ISA, Service Agreement No. 6912; Queue No. AD2-038 to be effective 11/18/2024.

Filed Date: 9/16/24.

Accession Number: 20240916-5031.

Comment Date: 5 p.m. ET 10/7/24.

Docket Numbers: ER24-3051-000.

Applicants: PacifiCorp.

Description: Tariff Amendment: Termination of Tri-State Construction Agreement Thermopolis Sub to be effective 5/4/2024.

Filed Date: 9/16/24.

Accession Number: 20240916-5037.

Comment Date: 5 p.m. ET 10/7/24.

Docket Numbers: ER24-3052-000.

Applicants: PJM Interconnection, LLC.

Description: 205(d) Rate Filing: Original GIA Service Agreement No. 7346, AE2-339 to be effective 8/15/2024.

Filed Date: 9/16/24.

Accession Number: 20240916-5045.

Comment Date: 5 p.m. ET 10/7/24.

Docket Numbers: ER24-3053-000.

Applicants: PJM Interconnection, LLC.

Description: 205(d) Rate Filing: Original WMPA Service Agreement No. 7347, AG1-480 to be effective 8/15/2024.

Filed Date: 9/16/24.

Accession Number: 20240916-5049.

Comment Date: 5 p.m. ET 10/7/24.

Docket Numbers: ER24-3055-000.

Applicants: PJM Interconnection, LLC.

Description: 205(d) Rate Filing: Amendment to WMPA, Service Agreement No. 6129; Queue No. AF1-287 to be effective 11/16/2024.

Filed Date: 9/16/24.

Accession Number: 20240916-5084.

Comment Date: 5 p.m. ET 10/7/24.

Docket Numbers: ER24-3056-000.

Applicants: New England Power Company.

Description: Tariff Amendment: 2024-09-16 Notice of Cancellation of Construction Services Agreement with WMECO to be effective 11/16/2024.

Filed Date: 9/16/24.

Accession Number: 20240916-5086.

Comment Date: 5 p.m. ET 10/7/24.

Take notice that the Commission received the following foreign utility company status filings:

Docket Numbers: FC24-4-000.

Applicants: Algonquin Power Co.

Description: Algonquin Power Co. submits Notice of Self-Certification of Foreign Utility Company Status.

Filed Date: 9/16/24.

Accession Number: 20240916-5074.

Comment Date: 5 p.m. ET 10/7/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 16, 2024.
Debbie-Anne A. Reese,
Acting Secretary.

[FR Doc. 2024-21599 Filed 9-19-24; 8:45 am]

BILLING CODE 6717-01-P